DEPARTMENT OF THE INTERIOR

Fish and Wildlife Service

[FWS-R8-ES-2016-N136; FXES11130800000-167-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before September 14, 2016.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-210235

Applicant: Matthew McDonald, Idyllwild, California

The applicant requests a permit renewal to take (survey by pursuit) the Quino checkerspot butterfly (Euphydryas editha quino) and take (harass by survey) the southwestern willow flycatcher (Empidonax traillii extimus) in conjunction with survey activities throughout the range of the species in California for the purpose of enhancing the species' survival.

Permit No. TE-20186A

Applicant: Garrett Huffman, Black Canyon City, Arizona

The applicant requests a permit amendment to take (harass by survey, capture, handle, release, collect vouchers, and collect branchiopod cysts) the San Diego fairy shrimp (Branchinecta sandiegonensis) and Riverside fairy shrimp (Streptocephalus woottoni) in conjunction with survey activities throughout the range of the species in California for the purpose of enhancing the species' survival.

Permit No. TE-166393

Applicant: Peter C. Trenham, State College, Pennsylvania

The applicant requests a permit renewal to take (harass by survey, capture, handle, release, apply egg laying substrates, and conduct training workshops) the California tiger salamander ((central distinct population segment (DPS), Santa Barbara County DPS, and Sonoma County DPS) (Ambystoma californiense)) in conjunction with survey, research, and training activities throughout the range of the species in California for the purpose of enhancing the species' survival.

Permit No. TE-99057B

Applicant: Steve R. Howard, Ventura, California

The applicant requests a new permit to take (harass by survey, capture, handle, and release) the arroyo toad (arroyo southwestern) (Anaxyrus californicus), tidewater goby (Eucyclogobius newberryi), and unarmored threespine stickleback (Gasterosteus aculeatus williamsoni) in conjunction with survey activities throughout the range of the species in California for the purpose of enhancing the species' survival.

Permit No. TE-01769B

Applicant: Jesse L. Reebs, Albany, California

The applicant requests a permit amendment to take (harass by survey using taped vocalization callback, and locate and monitor nests) the California Ridgway's rail (California clapper r.) (Rallus obsoletus obsoletus) (R. longirostris o.) in conjunction with survey activities within the San Francisco Bay area of California for the purpose of enhancing the species' survival.

Permit No. TE-60147A

Applicant: Heather Moine, Goleta, California

The applicant requests a permit renewal to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-50510A

Applicant: Geoffrey D. Cline, Truckee, California

The applicant requests a permit renewal to take (harass by survey, capture, handle, and release) the California tiger salamander ((central distinct population segment (DPS), Santa Barbara County DPS, and Sonoma County DPS) (Ambystoma californiense)), Fresno kangaroo rat (Dipodomys nitratoides exilis), Tipton kangaroo rat (Dipodomys nitratoides nitratoides), and giant kangaroo rat (Dipodomys ingens) in conjunction with survey activities throughout the range of the species in California for the purpose of enhancing the species' survival.

Permit No. TE-56889A

Applicant: Melissa Odell, Mariposa, California

The applicant requests a permit amendment to take (harass by survey, capture, handle, and release in aquatic habitats) the California tiger salamander ((central distinct population segment (DPS), Santa Barbara County DPS, and Sonoma County DPS) (Ambystoma californiense)) in conjunction with survey activities throughout the range of the species in California for the purpose of enhancing the species' survival.

Permit No. TE-068072

Applicant: Philippe J. Vergne, Boulder, Montana

The applicant requests a permit renewal to take (harass by survey, capture, handle, insert passive integrated transponder (PIT) tags, and release) the San Bernardino Merriam's kangaroo rat (Dipodomys merriami parvus), Stephens' kangaroo rat (Dipodomys stephensi), and Pacific pocket mouse (Perognathus longimembris pacificus) in conjunction with survey activities throughout the range of the species in California for the purpose of enhancing the species' survival.

Permit No. TE-012973

Applicant: ECORP Consulting Inc., Rocklin, California

The applicant requests a permit renewal to take (harass by survey, capture, handle, translocate resting eggs, release, collect vouchers, analyze soil samples, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); and take (harass by survey, capture, handle, and release) the California tiger salamander ((central distinct population segment (DPS), Santa Barbara County DPS, and Sonoma County DPS) (Ambystoma californiense)), giant kangaroo rat (Dipodomys ingens), and salt marsh harvest mouse (Reithrodontomys raviventris) in conjunction with survey activities throughout the range of the species in California for the purpose of enhancing the species' survival.

Permit No. TE-126141

Applicant: Craig Stockwell, Fargo, North Dakota

The applicant requests a permit renewal to take (capture, mark, fin clip, measure, release, and collect for research purposes) the Pahrump poolfish (Empetrichthys latos) in conjunction with survey, research, and genetic analysis activities in Nevada for the purpose of enhancing the species' survival.

Permit No. TE-00137C

Applicant: Michael Davis, Bozeman, Montana

The applicant requests a new permit to take (capture, mark, and release) the Mohave tui chub (Gila bicolor mohavensis) in conjunction with survey and population monitoring activities on Naval Air Weapons Station China Lake, China Lake, California, for the purpose of enhancing the species' survival.

Permit No. TE-823990

Applicant: Wildwing, Los Osos, California

The applicant requests a permit renewal to take (harass by survey, locate and monitor nests, handle/mark eggs, capture, band, erect exclosures, and release) the California least tern (Sternula antillarum browni) (Sterna a. browni) in conjunction with survey and population monitoring activities throughout the range of the species in California and Oregon for the purpose of enhancing the species' survival.

Permit No. TE-76732A

Applicant: Jennifer L. Kendrick, Encinitas, California

The applicant requests a permit renewal and amendment to take (harass by survey) the southwestern willow flycatcher (Empidonax traillii extimus) in conjunction with survey activities throughout the range of the species in California for the purpose of enhancing the species' survival.

Permit No. TE-72275B

Applicant: Meghan Bishop, Moraga, California

The applicant requests a permit amendment to take (harass by survey, capture, handle, release, collect vouchers, and collect branchiopod cysts) the Conservancy fairy shrimp (Branchinecta conservatio), longhorn fairy shrimp (Branchinecta longiantenna), and vernal pool tadpole shrimp (Lepidurus packardi) in conjunction with survey activities throughout the range of the species in California for the purpose of enhancing the species' survival.

Permit No. TE-02399C

Applicant: Harry Sandoval, Chino, California

The applicant requests a permit to take (harass by survey, capture, handle, ear tag, collect genetic sample, and release) the Stephens' kangaroo rat (Dipodomys stephensi) in conjunction with survey activities throughout the range of the species in California for the purpose of enhancing the species' survival.

Permit No. TE-02399C

Applicant: Jeff Gurule, North Fork, California

The applicant requests a permit renewal to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-02399C

Applicant: Davinna Ohlson, San Jose, California

The applicant requests a permit renewal to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-213308

Applicant: Joseph DiDonato, Alameda, California

The applicant requests a permit amendment to take (harass by survey, capture, handle, and release) the salt marsh harvest mouse (Reithrodontomys raviventris) in conjunction with survey activities throughout the range of the species in California for the purpose of enhancing the species' survival.

Permit No. TE-006112

Applicant: Gretchen Padgett-Flohr

The applicant requests a permit renewal and amendment to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); take (harass by survey, capture, handle, and release) the salt marsh harvest mouse (Reithrodontomys raviventris); and take (harass by survey, capture, handle, swab, tail clip, and release) the California tiger salamander ((central distinct population segment (DPS), Santa Barbara County DPS, and Sonoma County DPS) (Ambystoma californiense)) in conjunction with survey and research activities throughout the range of the species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Angela Picco,
Acting Regional Director, Pacific Southwest Region, Sacramento, California.

[FR Doc. 2016-19290 Filed 8-12-16; 8:45 am]

BILLING CODE 4333-15-P